DEPARTMENT OF AGRICULTURE

Commodity Credit Corporation

Request for Reinstatement and Revision of a Previously Approved Information Collection

AGENCY: Commodity Credit Corporation (CCC), USDA.

ACTION: Notice and request for comments.

SUMMARY: In accordance with the Paperwork Reduction Act of 1995, this notice announces the intention of CCC to request reinstatement and revision of an information collection previously approved with respect to the Upland Cotton User Marketing Certificate Program (Step 2 program). The information collection will allow CCC to administer the Step 2 program.

DATES: Comments on this notice must be received on or before May 10, 2002, to be assured consideration.

ADDITIONAL INFORMATION OR COMMENTS: Contact Timothy Murray, USDA, Farm Service Agency, Warehouse and Inventory Division, Inventory Management Branch, STOP 0553, 1400 Independence Avenue, SW., Washington, DC 20250-0553, (202) 720-7398; e-mail Tim_Murray@wdc.fsa.usda.gov.

SUPPLEMENTARY INFORMATION: Title: Upland Cotton Domestic User/Exporter Agreement and Payment Program.

OMB Control Number: 0560-0136.

Expiration Date of Approval: February 28, 2002.

Type of Request: Reinstatement and Revision of a Previously-Approved Information Collection.

Abstract: The information collected under OMB Control Number 0560-0136, as identified above, allows CCC to administer the Upland Cotton User Agreement and User Marketing Certificate Program as authorized by the Federal Agriculture Improvement and Reform Act of 1996 (1996 Act). Section 136(a) of the 1996 Act authorizes payments to eligible U.S. textile manufacturers and exporters under the Upland Cotton User Marketing Certificate Program if, for 4 consecutive weeks, (1) the U.S. Northern Europe price, as quoted for Middling 1 3/32-inch cotton, exceeds the Northern Europe price by more than 1.25 cents per pound, and (2) the prevailing upland cotton adjusted world market price is less than 134 percent of the current-crop base quality loan rate. Currently, to participate in the program, manufacturers and exporters must sign an agreement with CCC using form CCC-1045. Domestic manufacturers must report to CCC their weekly consumption of cotton as a basis for making payments. Exporters must provide basic shipping and invoice information for each shipment of cotton. No change is proposed in the existing information collection requirements, and program participants will not be required to sign a new agreement upon OMB's extension of this information collection. CCC provides a suggested format for the reports but program participants may submit the same information to CCC in a format that is convenient for them.

Estimate of Burden: Public reporting burden for this information collection is estimated to average 14 minutes per response.

Respondents: U.S. cotton exporters and U.S. cotton mills.

Estimated Number of Respondents: 310.

Estimated Number of Responses Per Respondent: 65.

Estimated Total Annual Burden on Respondents: 4,700 hours.

Comments are requested regarding (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology.

Comments should be sent to the Desk Officer for Agriculture, Office of Information and Regulatory Affairs, Office of Management and Budget, Washington, D.C. 20503, and to Timothy Murray at the address listed above. All comments will become a matter of public record.

A comment to OMB is best assured of having its full effect if OMB receives it within 60 days of publication.

Signed at Washington, DC, on February 15, 2002.
James R. Little,
Executive Vice President, Commodity Credit Corporation.

[FR Doc. 02-5762 Filed 3-8-02; 8:45 am]

BILLING CODE 3410-05-P